DEPARTMENT OF TRANSPORTATION

Federal Railroad Administration

[Docket Number FRA-2020-0096]

Petition for Waiver of Compliance

Under part 211 of title 49 Code of Federal Regulations (CFR), this document provides the public notice that on May 31, 2022, Brightline West (BW) petitioned the Federal Railroad Administration (FRA) for a waiver of compliance from certain provisions of the Federal railroad safety regulations contained at 49 CFR part 238, Passenger Equipment Safety Standards. FRA assigned the petition Docket Number FRA-2020-0096.

Specifically, BW requests relief from two regulations: §§ 238.112(f) and 238.121(c)(2), regarding interior doors and emergency system back-up power, respectively. As background, in December 2020, FRA denied BW's request for relief to use single-leaf breakable safety glass vestibule doors instead of doors with removal panels per § 238.112(f), because BW did not provide enough information and safety justification for FRA to render an appropriate decision. In its May 31, 2022, petition, BW states it has provided additional information as FRA identified, and renews its request for relief from this requirement. BW also requests new relief from § 238.121(c)(2), pertaining to the requirement that passenger equipment's emergency system back-up power be capable of withstanding shocks leading to individually applied accelerations of 8g/4g/4g (longitudinal/lateral/vertical). BW explains that the 8g/4g/4g accelerations are “inconsistent with the general design approach [for] a Tier III vehicle, which considers accelerations of [5g/3g/3g].” Additionally, BW notes that the Tier III notice of proposed rulemaking consensus language allows this specification if certain conditions are met for other back-up power supply systems. Further, BW notes that the approval of BW's waiver request in December 2020 assumed that the Siemens Velaro “Classic” trainsets would be used. BW requests FRA's confirmation and approval that the relief in this docket would apply to its next generation Siemens Velaro “Novo” trainsets, which are similar in design, but offer better accessibility, energy efficiency, and other improvements compared to the “Classic” trainsets.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by August 29, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-14860 Filed 7-12-22; 8:45 am]

BILLING CODE 4910-06-P